DEPARTMENT OF COMMERCE

National Oceanic and Atmospheric Administration

RIN 0648-XF963

Mid-Atlantic Fishery Management Council (MAFMC); Public Workshops

AGENCY: National Marine Fisheries Service (NMFS), National Oceanic and Atmospheric Administration (NOAA), Commerce.

ACTION: Notice of public workshops.

SUMMARY: The Mid-Atlantic Fishery Management Council (Council) will hold two training workshops for the purpose of providing instruction to for-hire operators on electronic reporting of vessel trip reports (VTRs).

DATES: The workshops will be held on February 10, 2018, 9 a.m. to 5 p.m., and February 24, 2018, 9 a.m. to 5 p.m.

ADDRESSES: The workshop dates and locations are as follows:

• February 10th at the DoubleTree by Hilton Boston North Shore, 50 Ferncroft Rd., Danvers, MA; phone: (978) 777-2500.

• February 24th at the Clarion Hotel & Convention Center, 815 Route 37 West, Toms River, NJ; phone: (732) 341-6101.

These workshops have a limited number of spaces. Participants are strongly encouraged to register early so that workshop personnel can work with each individual prior to the workshop to establish needed accounts for reporting systems. To ensure attendance, please register at http://www.mafmc.org/forms/evtr-workshop-registration or email the workshop coordinator at aloftus@andrewloftus.com.

Council address: Mid-Atlantic Fishery Management Council, 800 N. State St., Suite 201, Dover, DE 19901; telephone: (302) 674-2331.

FOR FURTHER INFORMATION CONTACT: Andrew Loftus, eVTR Outreach Workshop Coordinator; telephone: (410) 295-5997; email: aloftus@andrewloftus.com or Christopher M. Moore, Ph.D. Executive Director, Mid-Atlantic Fishery Management Council; telephone: (302) 526-5255. The Council's website, www.mafmc.org also has details on the proposed agenda and briefing materials.

SUPPLEMENTARY INFORMATION: NOAA Fisheries has issued a final rule requiring the use of electronic vessel trip reports (VTRs) by vessel owners/operators holding Federal charter or party permits for species managed by a Mid-Atlantic Fishery Management Council FMP while on trips carrying passengers for hire. Electronic VTRs must be submitted through a NOAA-approved software application within 48 hours following the completion of a fishing trip. Vessels with Federal charter or party permits for any of the following species will be bound by this rule:

• Atlantic mackerel

• Squid

• Butterfish

• Summer Flounder

• Scup

• Black sea bass

• Bluefish

• Tilefish

This action takes effect March 12, 2018, and changes only the required method of transmitting VTRs and the submission date; the required data elements and all other existing reporting requirements will not change. These workshops will provide information and training on select systems in preparation for this action.

These meetings are physically accessible to people with disabilities. Requests for sign language interpretation or other auxiliary aid should be directed to M. Jan Saunders, (302) 526-5251, at least 5 days prior to the meeting date.

Dated: January 19, 2018.
Jeffrey N. Lonergan,
Acting Deputy Director, Office of Sustainable Fisheries, National Marine Fisheries Service.

[FR Doc. 2018-01290 Filed 1-23-18; 8:45 am]

BILLING CODE 3510-22-P